DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on October 27, 1999 [64 FR 57924-57925].

DATES: Comments must be submitted on or before May 26, 2000.

ADDRESSES: Send comments, within 30 days, to the Office of Information and Regulatory Affairs, Office of Management and Budget, 725-17th Street, NW, Washington, DC 20503, Attention NHTSA Desk Officer.

FOR FURTHER INFORMATION CONTACT: Michael Huntley at the National Highway Traffic Safety Administration, Office of Crash Avoidance Standards (NPS-12), 202-366-0029, 400 Seventh Street, SW, Room 5307, Washington, DC 20590.

SUPPLEMENTARY INFORMATION:

National Highway Traffic Safety Administration

Title: 49 CFR part 571.213, Child Restraint Systems.

OMB Number: 2127-0511.

Type of Request: Extension of a currently approved collection.

Abstract: Each manufacturer of child restraint systems must label each system with safety information and instructions on using the restraint. Without proper use, the effectiveness of these systems are greatly diminished. The manufacturer is also required to provide a printed instructions brochure with-step-by-step information on how the restraint is to be used activated and used. A permanently attached label gives quick-look information on whether the restraint meets the safety requirements, recommended installation and use and warnings against misuse. Manufacturers are also required to provide owner registration cards and label to their child restraints with a message informing users of the importance of registering the restraint.

Affected Public: The manufacturer's producing child restraint systems.

Estimated Total Annual Burden: 90,000.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A Comment to OMB is most effective if OMB receives it within 30 days of publication.

Issued in Washington, DC, on April 19, 2000.
Herman L. Simms,
Associate Administrator for Administration.

[FR Doc. 00-10439 Filed 4-25-00; 8:45 am]

BILLING CODE 4910-59-P